DEPARTMENT OF THE INTERIOR

National Park Service

Funding Assistance for Non-Federal Acquisition of Civil War Battlefield Land

AGENCY: National Park Service, Interior.

ACTION: Availability of Funding for Acquisition of Civil War Battlefield Land.

SUMMARY: The National Park Service (NPS) announces the availability of funds to assist States and local communities in acquiring for permanent protection lands, or interests in lands, at significant Civil War battlefield sites.

ADDRESSES: Funding proposals should be mailed to: Hampton Tucker, National Park Service, Heritage Preservation Services, 1849 C Street, NW., NC 200, Washington, DC, 20240, telephone (202) 343-3580.

FOR FURTHER INFORMATION CONTACT: Paul Hawke, National Park Service, Heritage Preservation Services, 1849 C Street, NW., NC 200, Washington, DC, 20240, telephone (202) 343-1005.

SUPPLEMENTARY INFORMATION: The National Park Service's American Battlefield Protection Program (ABPP) announces the availability of funds from the Land and Water Conservation Fund to help States and local communities acquire and preserve our nation's threatened Civil War Battlefields, as authorized by the FY 2002 Department of the Interior Appropriations Act (Pub. L. 107-63). The $11 million available for matching grants will be administered by the ABPP and awarded through a competitive process over three years (fiscal years 2002 through 2004). Each grant requires a dollar-for-dollar non-Federal match. Grants are available for the fee simple acquisition of land, or for the acquisition of permanent, protective interests in land, at Civil War Battlefields listed in the Civil War Sites Advisory Commission's (CWSAC) 1993 Report on the Nation's Civil War Battlefields. Higher consideration will be given to proposals for acquisition at battlefields defined as Priority 1 or 2 sites in the CWSAC Report. The CWSAC Report and a listing of battlefields' priority status can be found on the ABPP's Web site at http://www2.cr.nps.gov/abpp/priority.htm.

Who May Apply

Battlefield Land Acquisition Grants will be awarded to units of State and local governments. In any case where a private non-profit organization seeks to acquire battlefield land with assistance from this program, that organization must apply in partnership with a State or local government agency. The government agency may then subgrant the federal funds to the non-profit organization. In any case where a local government or a private non-profit organization acquires land or an interest in land with assistance from this program, it must convey an acceptable perpetual protective easement on the land to the State Historic Preservation Officer or other governmental agency acceptable to the National Park Service, in accordance with the Administrative Requirements set out below.

What Is Funded

Grants must be used to acquire battlefield land or to acquire a permanent, protective interest (i.e., a perpetual easement) in battlefield land. Additional costs associated with the acquisition—such as appraisal costs, survey fees, title insurance, and other closing costs—are also eligible grant costs. Eligible battlefields are those listed in the CWSAC's 1993 Report on the Nation's Civil War Battlefields. CWSAC Priority 1 & 2 sites will be given highest consideration. Eligible acquisitions should lie within the “core” areas of these battlefields, as defined by the CWSAC. Proposals for acquisition of battlefield land outside the “core” area but within the “study” area as defined by the CWSAC are eligible but will be considered a lower priority than “core” area land. Land lying entirely outside of the CWSAC “study area” is not eligible for assistance from this program. In any case where the land proposed for acquisition lies partially within the study area and partially outside the study area, the majority of the land must be within the study area. Contact the ABPP to confirm core and study area boundaries. There is no minimum grant request. Typically, $500,000 will be the maximum award, though NPS will entertain larger requests under special circumstances. Past acquisition grants have ranged from $50,000 to $500,000, with an average grant of $220,000.

Ordinarily, grant funds will be awarded for acquisitions that take place following the award of the grant. However, a State or local government may apply on behalf of a non-profit organization that has borrowed money in order to acquire land immediately in order to prevent its imminent sale for development, provided that the land in question is not currently protected by public ownership of a permanent, protective interest in the land. Grant assistance for the retirement of such privately held debt must result in the public ownership of either the fee simple interest or a permanent, protective interest in the land, in accordance with the other terms of this offering. However, the fact of such prior purchase creates no additional priority for funding assistance from NPS.

Administrative and Funding Requirements

• A dollar-for-dollar non-Federal match is required for all projects; Federal appropriations or other Federal grants may not be used for match. Matching funds should be “in-hand” or otherwise committed at the time that the acquisition proposal is submitted to NPS. NPS will accept proposals from applicants who have not yet secured their matching share, but it reserves the right to provide such applicants with a conditional response pending the availability of matching funds within a specified period of time. If partners will not commit matching funds without the leverage provided by this acquisition grant, applicants may provide a letter from potential funding sources guaranteeing that receipt of a battlefield acquisition grant will release matching funds.

• Section 6.f. of the Land and Water Conservation Act requires that the land acquired with these funds shall not be converted to other uses without the express written consent of the Secretary of the Interior, but must be preserved in perpetuity. These provisions must be included in any conveyance documents of land or interests in lands acquired with grant funds. All Battlefield Acquisition grantees must agree that a permanent record will be kept in the relevant public property records and be available for public inspection to the effect that this property was acquired with Federal assistance, and that it will not be converted to other than preservation uses without the written approval of NPS. All grantees further agree, therefore, that the appropriate remedy in the event of a breach by the grantee of this agreement shall be the specific performance of this agreement, and that the amount of the grant cannot be repaid to negate the requirements of this agreement.

• Because the Section 6.f. “non-conversion” clause noted above is not necessarily sufficient to protect the historic features of the battlefield, NPS also requires that all Battlefield Acquisition grantees or subgrantees must encumber the title to the acquired battlefield property with a preservation easement running with the land, in favor of and enforceable in court by the State Historic Preservation Office, or by another government agency acceptable to NPS, in perpetuity. In cases where a State government agency will acquire and manage the property, the State must enter into a letter of agreement with NPS, stating that the State will preserve and maintain the property and its historic features for future generations. This letter will be recorded with the deed for the property and will run with the land in perpetuity.

• The fundamental purpose of the Land and Water Conservation Fund is to assist in the acquisition and/or development of public outdoor recreation areas. Accordingly, grantees must provide for the appropriate public access to and enjoyment of any lands or interests in lands acquired with assistance from this program, subject to necessary and reasonable measures on the part of the grantee to protect the historic features of the battlefield from damage or loss.

• Prior to the expenditure of grant funds for the purchase of real property, a current appraisal must be obtained. This appraisal must have an effective date within 180 calendar days of the signing of the contract to purchase the property. A professional appraiser licensed and certified in accordance with Title XI of the Financial Institutions Reform, Recovery and Enforcement Act of 1989 (FIRREA), as amended, in the State where the appraised property is located must perform the appraisal. A copy of the appraisal must be submitted to NPS for review to support the proposed acquisition cost. Appraisal preparation, documentation and reporting must be made in conformance with the standards and practices of the Uniform Appraisal Standards for Federal Land Acquisitions (UASFLA), as codified in 49 CFR 24.103, and the Uniform Standards of Professional Appraisal Practices (USPAP Standards 1 and 2) published by the Interagency Land Acquisition Conference. A copy of the appraisal standards can be obtained from the Department of Justice Web site at http://www.usdoj.gov/enrd/land-ack/fwd. Appraisals will be reviewed by NPS for conformance with the Federal appraisal requirements. The cost of the appraisal is an allowable cost for this grant.

• Grantees may not charge costs for administering the project to the grant or to the required matching share.

Proposal Package

Each proposal should include the following elements (all must be present before the proposal will be accepted by the ABPP):

(1) CWSAC Priority Listing and Map

The applicant must include the CWSAC priority listing and document that the proposed acquisition lies within the battlefield core and/or study area, as defined by the CWSAC. Applicants must submit a USGS quadrangle map with the boundaries of the proposed acquisition clearly drawn.

(2) Threat to the Battlefield

The applicant must demonstrate that the battlefield is imminently threatened. The nature, the extent, and the level of severity of the threat to the battlefield must be clearly and convincingly stated. Further, the applicant must describe how and to what extent the proposed acquisition addresses the described threat.

(3) Ability to Secure Non-Federal Match

An applicant that has secured matching funds must list all sources of those funds. The applicant must certify that the non-federal matching funds are either “in-hand” or otherwise committed in writing at the time of application. Third-party matching share commitments must be documented by letter from the third party. Matching share commitments contingent upon receipt of federal funds from this program are acceptable.

An applicant that has not yet secured matching funds must submit a specific, credible plan for raising the necessary matching funds. The plan must identify potential sources of funds. It must include a proposed schedule, usually not more than 120 days, for securing funds or commitments of funds.

(4) Immediacy of Acquisition

The applicant must demonstrate that the owner of the property to be acquired is willing to sell the land at an agreed-upon price. Acceptable documentation includes a contract or contingent contract to buy the land, or a letter from the owner indicating willingness to enter into such a contract at a specified price. The applicant should include a schedule for completion of the acquisition within the near future.

For Additional Information

Questions and requests may be addressed to Paul Hawke, Chief, American Battlefield Protection Program, at 202-343-1005.

Proposal Submission

Proposal packages must be submitted in hard copy. Faxed proposals and proposals submitted electronically will not be accepted. Incomplete proposals will not be considered. Unsuccessful applicants may resubmit a more complete proposal for consideration in a later round of awards.

A complete proposal package contains all of the following items

• A carefully drawn map on a USGS Quadrangle Map that defines the boundaries of the battlefield and identifies within those boundaries the specific lands to be acquired.

• A statement defining the threat to the battlefield. The statement should highlight the impact of this threat on the proposed acquisition parcel.

• A statement from the property owner indicating a willingness to sell or to negotiate for the sale of the property.

• A list of sources of the required non-Federal matching share. Verification of the availability of these funds must be included with this proposal.

Application Deadlines

Applicants may submit their proposals to NPS at any time. Applications for Priority 1 and 2 battlefields will be reviewed as they are received. NPS will notify the applicant of its decision within 30 days of receipt of the application. Applications for Priority 3 and 4 battlefields will be reviewed every four months beginning on June 1, 2002, and thereafter on October 1, 2002, February 1, 2003, June 1, 2003, and October 1, 2003, or until funds are no longer available. For example, a Priority 3 or 4 application received on June 2, 2002 would not be reviewed until October 1, 2002. NPS will notify Priority 3 and 4 applicants of its decision within 45 days of the pertinent deadline above.

Dated: February 13, 2002.
Hampton Tucker,
Grants Management Specialist, Heritage Preservation Services.

[FR Doc. 02-7251 Filed 3-25-02; 8:45 am]

BILLING CODE 4310-70-P